DEPARTMENT OF TRANSPORTATION

Federal Aviation Administration

Agency Information Collection Activities: Requests for Comments; Clearance of Renewed Approval of Information Collection: Neighborhood Environmental Survey

AGENCY: Federal Aviation Administration (FAA), DOT.

ACTION: Notice and request for comments.

SUMMARY: In accordance with the Paperwork Reduction Act of 1995, FAA invites public comments about our intention to request the Office of Management and Budget (OMB) approval to renew an information collection. The purpose of this research is to conduct a nation-wide survey to update the scientific evidence of the relationship between aircraft noise exposure and its effects on communities around airports.

DATES: Written comments should be submitted by January 29, 2018.

ADDRESSES: Send comments to the FAA at the following address: Barbara Hall, Federal Aviation Administration, ASP-110, 10101 Hillwood Parkway, Fort Worth, TX 76177.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall by email at: Barbara.L.Hall@faa.gov; phone: 940-594-5913.

SUPPLEMENTARY INFORMATION: OMB Control Number: 2120-0762.

Title: Neighborhood Environmental Survey.

Form Numbers: None.

Type of Review: Renewal of an information collection.

Respondents: 12,656 respondents affected by airport noise.

Frequency: One time per respondent.

Estimated Average Burden per Response: Five minutes for a mail survey, twenty minutes for a telephone survey for selected respondents.

Estimated Total Annual Burden: 1,637 hours.

Issued in Fort Worth, TX, on November 21, 2017.
Barbara L. Hall,
FAA Information Collection Clearance Officer, Performance, Policy, and Records Management Branch, ASP-110.

[FR Doc. 2017-25844 Filed 11-29-17; 8:45 am]

BILLING CODE 4910-13-P